DEPARTMENT OF ENERGY

Office of Defense Nuclear Nonproliferation (NN); Nonproliferation and National Security Advisory Committee

AGENCY: Department of Energy.

ACTION: Notice of closed meeting.

SUMMARY: This notice announces a meeting of the Nonproliferation and National Security Advisory Committee. The Federal Advisory Committee Act, 5 U.S.C. App. 2 10(a)(2) requires that public notice of these meetings be announced in the Federal Register.

DATES: Tuesday, October 24, 2000, 9 a.m. to 5 p.m. and Wednesday, October 25, 2000, 8 a.m. to 3 p.m.

ADDRESSES: Department of Energy, Forrestal Building, 1000 Independence Avenue, SW., Washington DC 20585

FOR FURTHER INFORMATION CONTACT: Mr. Robert Waldron (202-586-2400), Designated Federal Officer, Office of Nonproliferation Research and Engineering (NN-20), Office of Defense Nuclear Nonproliferation, 1000 Independence Avenue, SW., Washington, DC 20585.

SUPPLEMENTARY INFORMATION: The purpose of the Committee: To provide the Secretary of Energy and the Deputy Administrator for Defense Nuclear Nonproliferation with advice, information, and recommendations on national research needs and priorities.

Purpose of the Meeting: To discuss the nonproliferation and national security research, development, and policy programs.

Closed Meeting: In the interest of national security, the meeting will be closed to the public, pursuant to the Federal Advisory Committee Act, 5 U.S.C. App. 2 10 (d), and the Federal Advisory Committee Management regulation, 41 CFR 101-6.1023, “Procedures for Closing an Advisory Committee Meeting”, which incorporate by reference the Government in the Sunshine Act, 5 U.S.C. 552b, which, at 552b (c)(1) and (c)(3) permits closure of meetings where restricted data or other classified matters are discussed.

Minutes: Minutes of the meeting will be recorded and classified accordingly.

Issued at Washington, DC on October 16, 2000.
Rachel M. Samuel,
Deputy Advisory Committee, Management Officer.

[FR Doc. 00-26892 Filed 10-18-00; 8:45 am]

BILLING CODE 6450-01-U